DEPARTMENT OF HEALTH AND HUMAN SERVICES

Centers for Disease Control and Prevention

Advisory Board on Radiation and Worker Health: Meeting

In accordance with section 10(a)(2) of the Federal Advisory Committee Act (Pub. L. 92-463), the Centers for Disease Control and Prevention (CDC) announces the following committee meeting.

Name: Advisory Board on Radiation and Worker Health (ABRWH) Teleconference.

Time and Date: 1:00 p.m.—3:00 p.m., February 5, 2002.

Place: Teleconference call will originate at the Centers for Disease Control and Prevention, National Institutes for Occupational Safety and Health, Atlanta, Georgia. Please see SUPPLEMENTARY INFORMATION for details on accessing the teleconference.

Status: Open to the public, teleconference access limited only by ports available.

Background: The Advisory Board on Radiation and Worker Health (“the Board”) was established under the Energy Employees Occupational Illness Compensation Program Act of 2000 to advise the President on a variety of policy and technical functions required to implement and effectively manage the new compensation program. Key functions of the Board include providing advice on the development of probability of causation guidelines which are being promulgated by Department of Health and Human Services (HHS), advice on methods of dose reconstruction which have been promulgated as an interim final rule, evaluation of the validity and quality of dose reconstructions conducted by the National Institute for Occupational Safety and Health (NIOSH) for qualified cancer claimants, and advice on the addition of classes of workers to the Special Exposure Cohort.

In December, 2000, the President delegated responsibility for funding, staffing, and operating the Board to HHS, which subsequently delegated this authority to the Centers for Disease Control and Prevention (CDC). NIOSH implements this responsibility for CDC. The charter was signed on August 3, 2001 and in November, 2001, the President completed the appointment of an initial roster of 10 Board members. The initial tasks of the Board will be to review and provide advice on the proposed and interim rules of HHS.

Purpose: This board is charged with (a) providing advice to the Secretary, Department of Health and Human Services on the development of guidelines under Executive Order 13179; (b) providing advice to the Secretary, Department of Health and Human Services on the scientific validity and quality of dose reconstruction efforts performed for this Program; and (c) upon request by the Secretary, Department of Health and Human Services, advise the Secretary on whether there is a class of employees at any Department of Energy facility who were exposed to radiation but for whom it is not feasible to estimate their radiation dose, and on whether there is reasonable likelihood that such radiation doses may have endangered the health of members of this class.

Matters to be Discussed: Agenda for this meeting will focus on the Board providing final comments and a vote on probability of causation rule (42 CFR, part 81). The period for comment closes on February 6, 2002, and the Advisory Board on Radiation and Worker Health is required to comment as mandated by Energy Employees Occupational Illness Compensation Program Act of 2000.

Agenda items are subject to change as priorities dictate.

This request has been submitted late as this conference call was scheduled on January 23, 2002. This conference call cannot be delayed as the open comment period for the rules on probability of causation closes February 6, 2002, the day after this conference call takes place.

Supplementary Information: This conference call is scheduled for 1:00 p.m. Eastern Standard Time. To access the teleconference you must dial 1/800-457-0183. To be automatically connected to the call, you will need to provide the operator with the participant code “134986” and you will be connected to the call.

For Further Information Contact: Larry Elliott, Executive Secretary, ABRWH, NIOSH, CDC, 4676 Columbia Parkway, Cincinnati, Ohio 45226, telephone 513/841-4498, fax 513/458-7125.

The Director, Management Analysis and Services Office, has been delegated the authority to sign Federal Register notices pertaining to announcements of meetings and other committee management activities for both the Centers for Disease Control and Prevention and the Agency for Toxic Substances and Disease Registry.

Dated: January 24, 2002.
Alvin Hall,
Acting Director, Management Analysis and Services Office, Centers for Disease Control and Prevention.

[FR Doc. 02-2189 Filed 1-25-02; 10:19 am]

BILLING CODE 4163-19-P